EXECUTIVE OFFICE OF THE PRESIDENT

Office of National Drug Control Policy

Designation of Six Areas as High Intensity Drug Trafficking Areas

AGENCY: Office of National Drug Control Policy (ONDCP).

ACTION: Notice of six High Intensity Drug Trafficking Areas (HIDTA) designations.

SUMMARY: The Director of the Office of National Drug Control Policy designated six additional areas as High Intensity Drug Trafficking Areas (HIDTA). See SUPPLEMENTARY INFORMATION for locations.

FOR FURTHER INFORMATION CONTACT: Questions regarding this notice should be directed to Shannon Kelly, National HIDTA Director, Office of National Drug Control Policy, Executive Office of the President, Washington, DC 20503; (202) 841-5240.

SUPPLEMENTARY INFORMATION: The new areas are (1) Butte County in California as part of the Central Valley California HIDTA; (2) Vigo County in Indiana as part of the Indiana HIDTA; (3) Cumberland and Salem Counties in New Jersey as part of the Liberty Mid-Atlantic HIDTA; (4) Schenectady County in New York as part of the New York/New Jersey HIDTA; and (5) Lawrence County in Pennsylvania as part of the Ohio HIDTA.

Authority: 21 U.S.C. 1706(b)(1).

Dated: July 22, 2022.
Robert Kent,
General Counsel.

[FR Doc. 2022-16095 Filed 7-26-22; 8:45 am]

BILLING CODE 3280-F5-P